DEPARTMENT OF DEFENSE

Office of the Secretary

Draft Environmental Impact Statement for the O'Brien Road Access Modernization, Fort Meade, Maryland

AGENCY: Department of Defense (DoD).

ACTION: Notice of availability; notice of public meeting; request for comments.

SUMMARY: The DoD announces the availability of the Draft Environmental Impact Statement (EIS) as part of the environmental planning process for the O'Brien Road Access Modernization (ORAM) at Fort George G. Meade, Maryland (hereafter referred to as Fort Meade). The DoD proposes to implement the ORAM project, which would entail renovation and upgrade of inspection facilities, upgrade of access facilities, and corresponding roadway improvements for Mapes, O'Brien, Perimeter, and Venona Roads on Fort Meade. The purpose of the proposed project is to construct facilities and infrastructure to allow for increased capacity for required security processing of traffic and deliveries entering Fort Meade and the National Security Agency (NSA) campus. The need for the proposed project is to address inefficiencies with current infrastructure and capacity issues.

DATES: There will be a virtual public meeting from 5 p.m. to 7 p.m. on July 19, 2023 via the Webex platform. Access and registration details are available on the project website at https://www.nab.usace.army.mil/oram. The public meeting may end earlier or later than the stated time depending on the number of persons wishing to speak. All materials that are submitted in response to the Draft EIS should be received by July 24, 2023 to provide sufficient time to be considered in preparation of the Final EIS.

ADDRESSES: Copies of the Draft EIS are available for your review on the project website at https://www.nab.usace.army.mil/oram and at the Medal of Honor Memorial Library, 4418 Llewellyn Avenue, Fort Meade, MD 20755; Glen Burnie Regional Library, 1010 Eastway, Glen Burnie, MD 21060; Odenton Regional Library, 1325 Annapolis Road, Odenton, MD 21113; and Severn Community Library, 2624 Annapolis Road, Severn, MD 21144. You may also call (301) 688-2970 or send an email to ORAM@hdrinc.com to request a copy of the Draft EIS.

FOR FURTHER INFORMATION CONTACT: Mr. Jeffrey Williams at 301-688-2970, or email jdwill2@nsa.gov.

SUPPLEMENTARY INFORMATION: This notice announces a 45-day comment period and provides information on how to participate in the public review process. The public comment period for the Draft EIS will officially end July 24, 2023.

Background: NSA is a tenant DoD agency on Fort Meade, occupying approximately 840 acres of the 5,100-acre installation. Renovation and upgrade of inspection and access facilities for NSA is required to meet increased mission and security capacity. The existing Vehicle Control Inspection Facility (VCIF) and Vehicle Control Point 5 (VCP5) represent two significant entry points for access to the NSA campus. Both facilities require replacement due to process inefficiencies and insufficient capacity to meet current and future demand. Original sizing of the VCIF provided for inspection facilities only for NSA deliveries and traffic. Post 9/11, a decision was made that NSA would inspect both Fort Meade and NSA deliveries. Additionally, major construction activities on Fort Meade have generated increases in traffic access and inspection throughout the installation. These conditions have resulted in extensive delays at the VCIF and traffic back-ups onto Maryland State Route 32. The design of VCP5 on O'Brien Road is also outdated and provides insufficient access capacity between the NSA campus and Fort Meade. Relocation of the Fort Meade Access Control Facility (ACF) on Mapes Road is included to facilitate the design and construction of the overall access gate infrastructure and roadway system, as well as minimize environmental impacts.

Proposed Action and Alternatives: The proposed action would consist of: construction of a new VCP5 along O'Brien Road; construction of a new VCIF with adjacent visitor control center; construction of a new Mail Screening Facility adjacent to the VCIF; reconfiguration of the Mapes Road ACF; roadway improvements to provide enhanced routing and separation of traffic between NSA and Fort Meade entering from MDs 32 and 198; and associated infrastructure, including sidewalks, inspection canopies, dog kennels, surface parking areas, stormwater management facilities, and utilities.

Alternatives identified include two build alternatives that involve distinct configurations of project elements within the same general area on the NSA campus and Fort Meade. The No Action Alternative (not undertaking the proposed improvements) is also analyzed in detail.

Summary of Environmental Impacts: The level of environmental impacts potentially resulting from the Proposed Action and alternatives would be largely similar, regardless of which alternative would be selected.

Generally, construction and demolition would result in some ground disturbance, temporary increases in noise, and increased traffic congestion and lane closures, which would be expected regardless of the alternative selected. Implementation of the ORAM would be expected to result in long-term, negligible to major, adverse impacts on noise, geological resources, water resources, biological resources, infrastructure, and socioeconomics. Long-term, negligible to moderate, beneficial impacts on land use and visual resources, air quality, and sustainability. Major adverse impacts on wetlands would occur under either alternative, for which mitigation measures would be developed in coordination with the U.S. Army Corps of Engineers and Maryland Department of the Environment. Major beneficial impacts on transportation would occur as result of the improvements.

Best Management Practices and Mitigation Measures: The Proposed Action has the potential to result in adverse environmental impacts. The Proposed Action includes best management practices, mitigation measures, and design concepts to avoid or minimize adverse impacts to the extent practicable. Unavoidable impacts would be minimized or compensated for to the extent practicable. In accordance with Council on Environmental Quality regulations, mitigation measures are considered for adverse environmental impacts.

Copies of the Draft EIS are available for public review on the project website, at local repositories, and by request (see ADDRESSES). The DoD invites public and agency input on the Draft EIS. Please submit comments and materials during the 45-day public review period to allow sufficient time for consideration in development of the Final EIS (see DATES).

The DoD will consider all comments received and then prepare the Final EIS. As with the Draft EIS, DoD will announce the availability of the Final EIS.

Dated: June 2, 2023.
Aaron T. Siegel,
Alternate OSD Federal Register Liaison Officer, Department of Defense.

[FR Doc. 2023-12350 Filed 6-8-23; 8:45 am]

BILLING CODE 5001-06-P